DEPARTMENT OF ENERGY

Federal Energy Regulatory Commission

Combined Notice of Filings

Take notice that the Commission has received the following Natural Gas Pipeline Rate and Refund Report filings:

Filings Instituting Proceedings

Docket Numbers: RP19-311-000.

Applicants: NEXUS Gas Transmission, LLC.

Description: § 4(d) Rate Filing: Negotiated Rate—CNX Gas to DTE Energy to be effective 12/1/2018.

Filed Date: 11/27/18.

Accession Number: 20181127-5023.

Comments Due: 5 p.m. ET 12/10/18.

Docket Numbers: RP19-312-000.

Applicants: Guardian Pipeline, L.L.C.

Description: § 4(d) Rate Filing: Non-Conforming and Negotiated Rate Agreement Wisconsin Gas & Wisconsin Electric to be effective 12/1/2018.

Filed Date: 11/27/18.

Accession Number: 20181127-5060.

Comments Due: 5 p.m. ET 12/10/18.

Docket Numbers: RP19-313-000.

Applicants: Guardian Pipeline, L.L.C.

Description: § 4(d) Rate Filing: Non-Conforming and Negotiated Rate Agreement Wisconsin Gas & Wisconsin Electric to be effective 12/1/2018.

Filed Date: 11/27/18.

Accession Number: 20181127-5077.

Comments Due: 5 p.m. ET 12/10/18.

Docket Numbers: RP19-314-000.

Applicants: Gas Transmission Northwest LLC.

Description: § 4(d) Rate Filing: Annual Fuel Filing 2018 to be effective 1/1/2019.

Filed Date: 11/27/18.

Accession Number: 20181127-5094.

Comments Due: 5 p.m. ET 12/10/18.

Docket Numbers: RP19-315-000.

Applicants: Florida Gas Transmission Company, LLC.

Description: § 4(d) Rate Filing: New Service Agreement (PowerSouth) Filing on 11-27-18 to be effective 12/1/2018.

Filed Date: 11/27/18.

Accession Number: 20181127-5101.

Comments Due: 5 p.m. ET 12/10/18.

Docket Numbers: RP19-316-000.

Applicants: Florida Gas Transmission Company, LLC.

Description: § 4(d) Rate Filing: Update Non-Conforming List (PowerSouth) Filing on 11-27-18 to be effective 12/1/2018.

Filed Date: 11/27/18.

Accession Number: 20181127-5102.

Comments Due: 5 p.m. ET 12/10/18.

Docket Numbers: RP19-317-000.

Applicants: Northern Natural Gas Company.

Description: § 4(d) Rate Filing: 20181127 Negotiated Rate to be effective 11/28/2018.

Filed Date: 11/27/18.

Accession Number: 20181127-5137.

Comments Due: 5 p.m. ET 12/10/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 28, 2018.
Nathaniel J. Davis, Sr.,
Deputy Secretary.

[FR Doc. 2018-26331 Filed 12-3-18; 8:45 am]

BILLING CODE 6717-01-P